DEPARTMENT OF HEALTH AND HUMAN SERVICES

Centers for Disease Control and Prevention

[Docket Number NIOSH-160]

Prevention Through Design (PtD) Plan for the National Initiative

AGENCY: National Institute for Occupational Safety and Health (NIOSH) of the Centers for Disease Control and Prevention (CDC), Department of Health and Human Services (HHS).

ACTION: Notice of draft document available for public comment.

SUMMARY: The National Institute for Occupational Safety and Health (NIOSH) of the Centers for Disease Control and Prevention (CDC) announces the availability of the following draft technical report entitled “Prevention through Design Plan for the National Initiative” now available for public comment. The document and instructions for submitting comments can be found at http://wwwdev.niosh.cdc.gov/niosh/review/public/160/.

DATES: Comments must be submitted by August 21, 2009.

ADDRESEES: Written comments may be submitted to the NIOSH Docket Office, MS-C34, Robert A. Taft Laboratories, 4676 Columbia Parkway, Cincinnati, OH 45226, telephone (513) 533-8611. All materials submitted to NIOSH should reference docket number NIOSH-160 and must be submitted by August 21, 2009 to be considered by the Agency. All electronic comments should be formatted as Microsoft Word. In addition comments may be sent via e-mail to nioshdocket@cdc.gov or by facsimile to (513) 533-8285. A complete electronic docket containing all comments submitted will be available on the NIOSH Web page at http://www.cdc.gov/niosh/docket, and comments will be available in writing by request. NIOSH includes all comments received without change in the electronic docket, including any personal information.

Background: The National Institute for Occupational Safety and Health (NIOSH) currently leads a nationwide initiative called Prevention through Design (PtD). PtD addresses occupational safety and health needs by eliminating hazards and minimizing risks to workers throughout the life cycle of work premises, tools, equipment, machinery, substances, and work processes including their construction, manufacture, use, maintenance, and ultimate disposal or re-use. The strategic plan outlined in this technical report establishes goals for the successful implementation of the PtD Plan for the National Initiative. This comprehensive approach, which includes worker health and safety in all aspects of design, redesign and retrofit, will provide a vital framework for saving lives and preventing work-related injuries and illnesses.

This guidance document does not have the force and effect of law.

FOR FURTHER INFORMATION CONTACT: Donna S. Heidel, CIH, NIOSH, E-mail dheidel@cdc.gov, telephone (513) 533-8489, facsimile (513) 533-8230.

Reference: The Prevention through Design Program Portfolio Web address for this document: http://wwwdev.niosh.cdc.gov/niosh/programs/PtDesign/.

Dated: May 26, 2009.
Christine M. Branche,
Acting Director, National Institute for Occupational Safety and Health Centers for Disease Control and Prevention.

[FR Doc. E9-12747 Filed 6-1-09; 8:45 am]

BILLING CODE 4163-19-P